DEPARTMENT OF HOMELAND SECURITY

Coast Guard

46 CFR Parts 1, 2, 3, 4, 5, 6, 7, 8, 9, 10, 12, 13, 15, 16, 24, 25, 26, 27, 28, 30, 31, 34, 35, 36, 38, 39, 42, 44, 45, 46, 47, 50, 52, 53, 54, 56, 58, 59, 61, 62, 63, 64, 67, 68, 69, 70, 71, 72, 76, 77, 78, 80, 90, 91, 92, 95, 96, 97, 98, 105, 107, 108, 109, 110, 111, 112, 113, 114, 116, 117, 118, 119, 120, 121, 122, 125, 127, 128, 129, 130, 131, 132, 133, 134, 147, 147A, 148, 150, 151, 153, 154, 159, 161, 162, 166, 167, 168, 169, 170, 171, 172, 173, 174, 175, 177, 178, 179, 180, 181, 182, 183, 184, 185, 188, 189, 190, 193, 194, 195, 196, 197, 199, and 401

49 CFR Parts 450, 451, 452, and 453

[USCG-2004-18884]

RIN 1625-ZA03

Shipping and Transportation; Technical, Organizational and Conforming Amendments

AGENCY: Coast Guard, DHS.

ACTION: Final rule.

SUMMARY: By this final rule, the Coast Guard is making editorial and technical changes throughout titles 46 and 49 of the Code of Federal Regulations (CFR) to update and correct the titles before they are revised on October 1, 2004. Our rule updates organization names and addresses, and makes conforming amendments and technical corrections. This rule will have no substantive effect on the regulated public.

DATES: This final rule is effective September 30, 2004.

ADDRESSES: Documents as indicated in this preamble are available for inspection or copying under docket number (USCG-2004-1884) at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: If you have questions on this rule, call Mr. Robert Spears, Project Manager, Standards Evaluation and Development Division (G-MSR-2), U.S. Coast Guard, at (202) 267-1099. If you have questions on viewing, or submitting material to the docket, call Andrea M. Jenkins, Program Manager, Docket Operations, Department of Transportation, at (202) 366-0271.

SUPPLEMENTARY INFORMATION:

Regulatory Information

We did not publish a notice of proposed rulemaking (NPRM) for this regulation. Under both 5 U.S.C. 553(b)(A) and (b)(B), the Coast Guard finds that this rule is exempt from notice and comment rulemaking requirements because some of these changes involve agency organization and practices, and all of these changes are non-substantive. This rule consists only of corrections and editorial, organizational, and conforming amendments. These changes will have no substantive effect on the public; therefore, it is unnecessary to publish an NPRM. Under 5 U.S.C. 553(d)(3), the Coast Guard finds that, for the same reasons, good cause exists for making this rule effective less than 30 days after publication in the Federal Register.

Discussion of the Rule

Each year titles 46 and 49 of the Code of Federal Regulations are updated on October 1. This rule, which becomes effective September 30, 2004, corrects organization names and addresses, revises authority citations for certain parts to reflect our move to the Department of Homeland Security (DHS) in March 2003, and makes other technical and editorial corrections throughout titles 46 and 49. This rule does not change any substantive requirements of existing regulations.

In the following paragraphs, we describe revisions that are not self-explanatory name, address or spelling corrections, gender-neutral changes, or updates to references/cites:

a. 46 CFR 10.205, 10.901, 10.903, 12.10-9, and 12.13-1. These sections contain a date or dates that no longer apply. Any date that has passed and no longer affects the rule has been removed.

b. 46 CFR 10.306, 10.811, and 12.02-29. The time periods for these sections have passed, or their subject matter is no longer relevant. These sections have served their purpose and are no longer valid. They are removed and reserved.

c. 46 CFR 13.113, 13.115, and 13.117. These sections contain grandfather provisions (for tankerman certified under prior regulations) that have expired. These sections have served their purpose, and they no longer apply to anyone. They are removed and reserved.

d. 46 CFR 15.1030. We added an interpretive note to the end of this section. Including this interpretive note in the CFR serves as an important reminder for those who are subject to it as well as those who are tasked with enforcing this regulation. The note first appeared in a Notice of Interpretation published in the Federal Register (USCG-2000-7742, 65 FR 49284, 11 Aug. 2000). We did not receive any formal comments (pro or con) when this notice was published.

e. 46 CFR 15.1105. Paragraph (d) is deleted as it has served its purpose. The passage of time has made this paragraph obsolete.

f. 46 CFR 28.575. This change allows one to use the formula with either English units or metric units.

g. 46 CFR 54.15 and 116.438. Errors in conversion of units are corrected.

h. 46 CFR 175.400. An erroneous conversion from cubic meters to cubic feet is corrected.

i. A number of sections throughout title 46 contain collection of information numbers changed by the transfer of the Coast Guard from the Department of Transportation (DOT) to the Department of Homeland Security (DHS). The old DOT series numbers (2115-) are replaced by the new DHS series numbers (1625-).

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this rule to be so minimal that a full Regulatory Evaluation under the regulatory policies and procedures of DHS is unnecessary. As this rule involves internal agency practices and procedures and non-substantive changes, it will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities.

This rule will have no substantive effect on the regulated public. Therefore, the Coast Guard certifies under 5 U.S.C. 605(b) that this rule will not have a significant economic impact on a substantial number of small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraphs (34)(a) and (b), of the Instruction from further environmental documentation because this rule involves editorial, procedural, and internal agency functions. An “Environmental Analysis Check List” and a “Categorical Exclusion Determination” are available in the docket where indicated under ADDRESSES.

List of Subjects

46 CFR Part 1

Administrative practice and procedure, Organization and functions (Government agencies), Reporting and recordkeeping requirements.

46 CFR Part 2

Marine safety, Reporting and recordkeeping requirements, Vessels.

46 CFR Part 3

Oceanographic research vessels, Reporting and recordkeeping requirements, Research.

46 CFR Part 4

Administrative practice and procedure, Drug testing, Investigations, Marine safety, Nuclear vessels, Radiation protection, Reporting and recordkeeping requirements, Safety, Transportation.

46 CFR Part 5

Administrative practice and procedure, Alcohol abuse, Drug abuse, Investigations, Seamen.

46 CFR Part 6

Navigation (water), Reporting and recordkeeping requirements, Vessels.

46 CFR Part 7

Law enforcement, Vessels.

46 CFR Part 8

Administrative practice and procedure, Organization and functions (Government agencies), Reporting and recordkeeping requirements, Incorporation by reference.

46 CFR Part 9

46 CFR Part 10

Reporting and recordkeeping requirements, Schools, Seamen.

46 CFR Part 12

Reporting and recordkeeping requirements, Seamen.

46 CFR Part 13

Reporting and recordkeeping requirements, Seamen, Cargo vessels

46 CFR Part 15

Reporting and recordkeeping requirements, Seamen, Vessels.

46 CFR Part 16

Drug Testing, Marine Safety, Reporting and recordkeeping requirements, Safety, Transportation.

46 CFR Part 24

Marine safety.

46 CFR Part 25

Fire prevention, Marine safety, Reporting and recordkeeping requirements.

46 CFR Part 26

Marine safety, Penalties, Reporting and recordkeeping requirements.

46 CFR Part 27

Fire Prevention, Marine Safety, Reporting and recordkeeping requirements, Vessels.

46 CFR Part 28

Fire prevention, Fishing vessels, Marine safety, Occupational safety and health, Reporting and recordkeeping requirements, Seamen.

46 CFR Part 30

Cargo vessels, Foreign relations, Hazardous materials transportation, Penalties, Reporting and recordkeeping requirements, Seamen.

46 CFR Part 31

Cargo vessels, Marine safety, Reporting and recordkeeping requirements.

46 CFR Part 34

Cargo vessels, Fire prevention, Marine safety.

46 CFR Part 35

Cargo vessels, Marine safety, Navigation (water), Occupational safety and health, Reporting and recordkeeping requirements, Seamen.

46 CFR Part 36

Cargo vessels, Hazardous materials transportation, Marine safety.

46 CFR Part 38

Cargo vessels, Fire prevention, Gases, Hazardous materials transportation, Marine safety, Reporting and recordkeeping requirements.

46 CFR Part 39

Cargo vessels, Fire prevention, Hazardous materials transportation, Marine safety, Occupational safety and health, Reporting and recordkeeping requirements.

46 CFR Part 42

Penalties, Reporting and recordkeeping requirements, Vessels.

46 CFR Part 44

Reporting and recordkeeping requirements, Vessels.

46 CFR Part 45

Great Lakes, Reporting and recordkeeping requirements, Vessels.

46 CFR Part 46

Passenger vessels, Penalties, Reporting and recordkeeping requirements.

46 CFR Part 47

Vessels.

46 CFR Part 50

Reporting and recordkeeping requirements, Vessels.

46 CFR Part 52

Reporting and recordkeeping requirements, Vessels.

46 CFR Part 53

Reporting and recordkeeping requirements, Vessels.

46 CFR Part 54

Reporting and recordkeeping requirements, Vessels.

46 CFR Part 56

Reporting and recordkeeping requirements, Vessels.

46 CFR Part 58

Reporting and recordkeeping requirements, Vessels.

46 CFR Part 59

Reporting and recordkeeping requirements, Vessels.

46 CFR Part 61

Reporting and recordkeeping requirements, Vessels.

46 CFR Part 62

Reporting and recordkeeping requirements, Vessels.

46 CFR Part 63

Reporting and recordkeeping requirements, Vessels.

46 CFR Part 64

Reporting and recordkeeping requirements, Vessels.

46 CFR Part 67

Vessels.

46 CFR Part 68

Oil pollution, Vessels.

46 CFR Part 69

Measurement standards, Penalties, Reporting and recordkeeping requirements, Vessels.

46 CFR Part 70

Marine Safety, Passenger vessels, Reporting and recordkeeping requirements.

46 CFR Part 71

Marine safety, Passenger vessels, Reporting and recordkeeping requirements.

46 CFR Part 72

Fire prevention, Marine safety, Occupational safety and health, Passenger vessels, Seamen.

46 CFR Part 76

Fire prevention, Marine safety, Passenger vessels.

46 CFR Part 77

Marine Safety, Navigation (water), Passenger vessels.

46 CFR Part 78

Marine safety, Navigation (water), Passenger vessels, Penalties, Reporting and recordkeeping requirements.

46 CFR Part 80

Advertising, Marine safety, Passenger vessels, Penalties, Travel.

46 CFR Part 90

Cargo vessels, Marine safety.

46 CFR Part 91

Cargo vessels, Marine safety, Reporting and recordkeeping requirements.

46 CFR Part 92

Cargo vessels, Fire prevention, Marine safety, Occupational safety and health, Seamen.

46 CFR Part 95

Cargo vessels, Fire prevention, Marine safety.

46 CFR Part 96

Cargo vessels, Marine safety, Navigation (water).

46 CFR Part 97

Cargo vessels, Marine safety, Navigation (water), Reporting and recordkeeping requirements.

46 CFR Part 98

Cargo vessels, Hazardous materials transportation, Marine safety, Reporting and recordkeeping requirements, Water pollution control.

46 CFR Part 105

Cargo vessels, Fishing vessels, Hazardous materials transportation, Marine safety, Petroleum, Seamen.

46 CFR Part 107

Marine safety, Oil and gas exploration, Reporting and recordkeeping requirements, Vessels.

46 CFR Part 108

Fire prevention, Marine safety, Occupational safety and health, Oil and gas exploration, Vessels.

46 CFR Part 109

Marine safety, Occupational safety and health, Oil and gas exploration, Reporting and recordkeeping requirements, Vessels.

46 CFR Part 110

Reporting and recordkeeping requirements, Vessels.

46 CFR Part 111

Vessels.

46 CFR Part 112

Vessels.

46 CFR Part 113

Communications equipment, Fire prevention, Vessels.

46 CFR Part 114

Marine safety, Passenger vessels, Reporting and recordkeeping requirements.

46 CFR Part 116

Fire prevention, Marine safety, Passenger vessels, Seamen.

46 CFR Part 117

Marine safety, Passenger vessels.

46 CFR Part 118

Fire prevention, Marine safety, Passenger vessels.

46 CFR Part 119

Marine safety, Passenger vessels.

46 CFR Part 120

Marine safety, Passenger vessels.

46 CFR Part 121

Communications equipment, Marine safety, Navigation (water), Passenger vessels.

46 CFR Part 122

Marine safety, Passenger vessels, Penalties, Reporting and recordkeeping requirements.

46 CFR Part 125

Administrative practice and procedure, Cargo vessels, Hazardous materials transportation, Marine safety, Seamen.

46 CFR Part 127

Cargo vessels, Fire prevention, Marine safety, Occupational safety and health, Reporting and recordkeeping requirements, Seamen.

46 CFR Part 128

Cargo vessels, Hazardous materials transportation, Marine safety, Reporting and recordkeeping requirements.

46 CFR Part 129

Cargo vessels, Hazardous materials transportation, Marine safety, Reporting and recordkeeping requirements.

46 CFR Part 130

Cargo vessels, Marine Safety, Navigation (water), Reporting and recordkeeping requirements.

46 CFR Part 131

Cargo vessels, Fire prevention, Marine Safety, Navigation (water), Occupational safety and health, Reporting and recordkeeping requirements.

46 CFR Part 132

Cargo vessels, Fire prevention, Marine safety, Reporting and recordkeeping requirements.

46 CFR Part 133

Cargo vessels, Marine safety, Reporting and recordkeeping requirements.

46 CFR Part 134

Cargo vessels, Hazardous materials transportation, Marine safety, Occupational safety and health, Reporting and recordkeeping requirements, Seamen.

46 CFR Part 147

Hazardous materials transportation, Labeling, Marine safety, Packaging and containers, Reporting and recordkeeping requirements.

46 CFR Part 147A

Fire prevention, Hazardous substances, Occupational safety and health, Pesticides and pests, Seamen, Vessels.

46 CFR Part 148

Cargo vessels, Hazardous materials transportation, Marine safety.

46 CFR Part 150

Hazardous materials transportation, Marine safety, Occupational safety and health, Reporting and recordkeeping requirements.

46 CFR Part 151

Cargo vessels, Hazardous materials transportation, Marine safety, Reporting and recordkeeping requirements, Water pollution control.

46 CFR Part 153

Administrative practice and procedure, Cargo vessels, Hazardous materials transportation, Marine safety, Reporting and recordkeeping requirements, Water pollution control.

46 CFR Part 154

Cargo vessels, Gases, Hazardous materials transportation, Marine safety, Reporting and recordkeeping requirements.

46 CFR Part 159

Business and industry, Laboratories, Marine safety, Reporting and recordkeeping requirements.

46 CFR Part 161

Fire prevention, Marine safety, Reporting and recordkeeping requirements.

46 CFR Part 162

Fire prevention, Marine safety, Oil Pollution, Reporting and recordkeeping requirements.

46 CFR Part 166

Schools, Seamen, Vessels.

46 CFR Part 167

Fire prevention, Marine safety, Reporting and recordkeeping requirements, Schools, Seamen, Vessels.

46 CFR Part 168

Occupational safety and health, Schools, Seamen, Vessels.

46 CFR Part 169

Fire prevention, Marine safety, Reporting and recordkeeping requirements, Schools, Vessels.

46 CFR Part 170

Marine safety, Reporting and recordkeeping requirements, Vessels.

46 CFR Part 171

Marine safety, Passenger vessels.

46 CFR Part 172

Cargo vessels, Hazardous materials transportation, Marine safety.

46 CFR Part 173

Marine safety, Vessels.

46 CFR Part 174

Marine safety, Reporting and recordkeeping requirements, Vessels.

46 CFR Part 175

Marine safety, Passenger vessels, Reporting and recordkeeping requirements.

46 CFR Part 177

Marine safety, Passenger vessels, Reporting and recordkeeping requirements.

46 CFR Part 178

Marine safety, Passenger vessels.

46 CFR Part 179

Marine safety, Passenger vessels.

46 CFR Part 180

Marine safety, Passenger vessels.

46 CFR Part 181

Fire prevention, Marine safety, Passenger vessels.

46 CFR Part 182

Marine safety, Passenger vessels.

46 CFR Part 183

Marine safety, Passenger vessels.

46 CFR Part 184

Communications equipment, Marine safety, Navigation (water), Passenger vessels, Reporting and recordkeeping requirements.

46 CFR Part 185

Marine safety, Passenger vessels, Reporting and recordkeeping requirements.

46 CFR Part 188

Marine safety, Oceanographic research vessels.

46 CFR Part 189

Marine safety, Oceanographic research vessels, Reporting and recordkeeping requirements.

46 CFR Part 190

Fire prevention, Marine safety, Occupational safety and health, Oceanographic research vessels.

46 CFR Part 193

Fire prevention, Marine safety, Oceanographic research vessels.

46 CFR Part 194

Explosives, Hazardous materials transportation, Marine safety, Oceanographic research vessels.

46 CFR Part 195

Marine safety, Navigation (water), Oceanographic research vessels.

46 CFR Part 196

Marine safety, Oceanographic research vessels, Reporting and recordkeeping requirements.

46 CFR Part 197

Benzene, Diving, Marine safety, Occupational safety and health, Reporting and recordkeeping requirements, Vessels.

46 CFR Part 199

Cargo vessels, Incorporation by reference, Marine safety, Oil and gas exploration, Passenger vessels, Reporting and recordkeeping requirements, Vessels.

46 CFR Part 401

Administrative practice and procedure, Great Lakes, Navigation (water), Penalties, Reporting and recordkeeping requirements, Seamen

49 CFR Part 450

Coast Guard, Freight, Packaging and containers, Reporting and recordkeeping requirements, Safety.

49 CFR Part 451

Coast Guard, Freight, Packaging and containers, Safety.

49 CFR Part 452

Coast Guard, Freight, Packaging and containers, Reporting and recordkeeping requirements, Safety.

49 CFR Part 453

Administrative practice and procedure, Coast Guard, Freight, Packaging and containers, Safety.

For the reasons discussed in the preamble, the Coast Guard amends 46 CFR parts 1, 2, 3, 4, 5, 6, 7, 8, 9, 10, 12, 13, 15, 16, 24, 25, 26, 27, 28, 30, 31, 34, 35, 36, 38, 39, 42, 44, 45, 46, 47, 50, 52, 53, 54, 56, 58, 59, 61, 62, 63, 64, 67, 68, 69, 70, 71, 72, 76, 77, 78, 80, 90, 91, 92, 95, 96, 97, 98, 105, 107, 108, 109, 110, 111, 112, 113, 114, 116, 117, 118, 119, 120, 121, 122, 125, 127, 128, 129, 130, 131, 132, 133, 134, 147, 147A, 148, 150, 151, 153, 154, 159, 161, 162, 166, 167, 168, 169, 170, 171, 172, 173, 174, 175, 177, 178, 179, 180, 181, 182, 183, 184, 185, 188, 189, 190, 193, 194, 195, 196, 197, 199, and 401, and 49 CFR Parts 450, 451, 452, and 453 as follows:

Title 46—Shipping

PART 1—ORGANIZATION, GENERAL COURSE AND METHODS GOVERNING MARINE SAFETY FUNCTIONS

1. Revise the authority citation for part 1 to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

§ 1.01-25 [Amended]

2. Amend § 1.01-25 as follows:

a. In paragraph (b), after the phrase “activities are channeled,” add a comma; and

b. In paragraph (c)(1), remove the word “preferment” and add, in its place, the word “bringing”.

§ 1.01-35 [Amended]

3. In § 1.01-35(b), remove the number “2115-0007” and add, in its place, the number “1625-0002”; remove the number “2115-0141” and add, in its place, the number “1625-0035”; remove the number “2115-0053” and add, in its place, the number “1625-0014”; remove the number “2115-0003” and add, in its place, the number “1625-0001”; and remove the number “2115-0005” and add, in its place, the number “1625-0002”.

PART 2—VESSEL INSPECTIONS

4. Revise the authority citation for part 2 to read as follows:

Authority: 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1. Subpart 2.45 also issued under the Act Dec. 27, 1950, Ch. 1155, secs. 1, 2, 64 Stat. 1120 (see 46 U.S.C. App. note prec. 1).

§ 2.01-5 [Amended]

5. In § 2.01-5 (c), after the word “When” and after the word “etc.”, add commas; and between the words “whom” and “request”, add the word “a”.

§ 2.01-10 [Amended]

6. In § 2.01-10(b), add commas before and after the words “on its own initiative”.

§ 2.10-15 [Amended]

7. Amend § 2.01-15 as follows:

a. In paragraph(a)(2), after the word “see”, add the word “either” and, after the word “Vessels)”, add the words “or § 115.700 of subchapter K (Small Passenger Vessels Carrying More than 150 Passengers or with Overnight Accommodations for more than 49 Passengers)”; and

b. In paragraph (b), in the introductory text, add commas before and after the words “in the opinion of the marine inspector”.

§ 2.01-20 [Amended]

8. In § 2.01-20, after the word “suspended” add the word “or”.

9. Revise § 2.01-25(a)(3) to read as follows:

§ 2.01-25 International Convention for Safety of Life at Sea, 1974.

(a) * * *

(3) When authorized by the Commandant, U.S. Coast Guard, the American Bureau of Shipping may issue the Cargo Ship Safety Construction Certificate to cargo and tankships which it classes.

* * * * *

§ 2.10-101 [Amended]

10. In § 2.10-101(b), remove “§ 2.10-103” and add, in its place, “§ 2.10-105”.

§ 2.10-115 [Amended]

11. In § 2.10-115(a), after the words “single service”, add a comma.

12. In § 2.20-40, revise the introductory text of paragraph (c) to read as follows:

§ 2.20-40 Chief Engineer's Report.

* * * * *

(c) When fusible plugs in boilers are renewed at a time other than the inspection for certification and there is no marine inspector in attendance at the renewal, the chief engineer must report the renewal of the fusible plugs by letter to the OCMI who issued the certificate of inspection. This letter report must contain the following information:

* * * * *

§ 2.20-50 [Amended]

13. In § 2.20-50, add commas before and after the words “except in an emergency”.

14. Amend § 2.75-1 as follows:

a. In paragraph (c), remove the words “Marine Safety and Environmental Protection” wherever they appear, and add, in their place, the words “Marine Safety, Security and Environmental Protection”;

b. Revise paragraph (f) to read as follows:

§ 2.75-1 Approvals.

* * * * *

(f) A listing of current and formerly approved equipment and materials may be found on the internet at: http://cgmix.uscg.mil/equipment. Each OCMI may be contacted for information concerning approved equipment.

§ 2.75-5 [Amended]

15. Amend § 2.75-5 as follows:

a. In paragraph (a), remove the words “Marine Safety and Environmental Protection” and add, in their place, the words “Marine Safety, Security and Environmental Protection”; and

b. In paragraph (b), remove the word “sooner”.

§ 2.75-50 [Amended]

16. In § 2.75-50(c), remove the words “Marine Safety and Environmental Protection” and add, in their place, the words “Marine Safety, Security and Environmental Protection”.

§ 2.85-1 [Amended]

17. In § 2.85-1, add commas before and after the phrase “when placed on a vessel”.

PART 3—DESIGNATION OF OCEANOGRAPHIC RESEARCH VESSELS

18. Revise the authority citation for part 3 to read as follows:

Authority: 46 U.S.C. 2113, 3306; Department of Homeland Security Delegation No. 0170.1.

PART 4—MARINE CASUALTIES AND INVESTIGATIONS

19. The authority citation for part 4 is revised to read as follows:

Authority: 33 U.S.C. 1231; 43 U.S.C. 1333; 46 U.S.C. 2103, 2306, 6101, 6301, 6305; 50 U.S.C. 198; Department of Homeland Security Delegation No. 0170.1. Authority for subpart 4.40: 49 U.S.C. 1903(a)(1)(E).

§ 4.23-1 [Amended]

20. In § 4.23-1, after the word “If”, add a comma.

§ 4.40-30 [Amended]

21. In § 4.40-30(b), before the phrase “on scene investigation” add the word “an”.

PART 5—MARINE INVESTIGATION REGULATIONS—PERSONNEL ACTION

22. Revise the authority citation for part 5 to read as follows:

Authority: 46 U.S.C. 2103, 7101, 7301, 7701; Department of Homeland Security Delegation No. 0170.1.

§ 5.19 [Amended]

23. In § 5.19(b), add commas before and after the phrase “with or without probation”.

§ 5.33 [Amended]

24. In § 5.33, after the word “revocation”, add a comma.

25. Revise § 5.707(b) to read as follows:

§ 5.707 Stay of effect of decision and order of Administrative Law Judge on appeal to the Commandant; temporary license, certificate, or document.

* * * * *

(b) Action on the request is taken by the ALJ unless the hearing transcript has been forwarded to the Commandant, in which case, the Commandant will make the final action.

* * * * *

§ 5.803 [Amended]

26. In § 5.803, after the words “transcript of”, add the word “the”.

§ 5.805 [Amended]

27. In § 5.805(a), add commas before and after the words “in whole or in part”.

PART 6—WAIVERS OF NAVIGATION AND VESSEL INSPECTION LAWS AND REGULATIONS

28. Revise the authority citation for part 6 to read as follows:

Authority: Act Dec. 27, 1950, Ch. 1155, secs. 1, 2, 64 Stat. 1120 (see 46 U.S.C. App. note prec. 1); Department of Homeland Security Delegation No. 0170.1.

§ 6.01 [Amended]

29. Amend § 6.01 as follows:

a. In paragraph (b), in the first sentence, add commas before and after the words “with respect to a particular vessel”, and in the last sentence, add a comma after the words “in all other cases”; and

b. In paragraph (d), add a comma after the word “orally”.

§ 6.06 [Amended]

30. In § 6.06(c), in the introductory text, add commas before and after the phrase “effective for a particular vessel”.

PART 7—BOUNDARY LINES

31. Revise the authority citation for part 7 to read as follows:

Authority: 14 U.S.C. 633; 33 U.S.C. 151, 1222; Department of Homeland Security Delegation No. 0170.1.

PART 8—VESSEL INSPECTION ALTERNATIVES

32. Revise the authority citation for part 8 to read as follows:

Authority: 46 U.S.C. 3103, 3306, 3316, 3703; Department of Homeland Security Delegation No. 0170.1.

§ 8.320 [Amended]

33. In § 8.320(b)(9), remove the words “International Oil Pollution” and add, in their place, the words “International Pollution”.

§ 8.450 [Amended]

34. Amend § 8.450 as follows:

a. In paragraph (c), add a comma after the word “terminated”; and

b. In paragraph (d), add a comma after the word “terminated”.

PART 9—EXTRA COMPENSATION FOR OVERTIME SERVICES

35. Revise the authority citation for part 9 to read as follows:

Authority: 46 U.S.C. 2103; Department of Homeland Security Delegation No. 0170.1.

PART 10—LICENSING OF MARITIME PERSONNEL

36. Revise the authority citation for part 10 to read as follows:

Authority: 14 U.S.C. 633; 31 U.S.C. 9701; 46 U.S.C. 2101, 2103, and 2110; 46 U.S.C. Chapter 71; 46 U.S.C. 7502, 7505, 7701, 8906; Department of Homeland Security Delegation No. 0170.1. Sec. 10.107 is also issued under the authority of 44 U.S.C. 3507.

§ 10.102 [Amended]

37. In § 10.102(b), remove the words “in 1995 and 1997”.

§ 10.107 [Amended]

38. In § 10.107(b), remove the number “2115-0514” and add, in its place, the number “1625-0040”; remove the number “2115-0111” and add, in its place, the number “1625-0028”; and, remove the number “2115-0624” and add, in its place, the number “1625-0079”.

§ 10.205 [Amended]

39. Amend § 10.205 as follows:

a. In paragraph (d)(4), in the third sentence, remove the words “in behalf”, and add, in their place, the words “on behalf”.

b. In paragraph (f)(3), remove the words “license or mariner's document”, and add, in their place the words “license or merchant mariner's document”;

c. In paragraph (l), remove the words “After January 31, 1997, except as provided in § 10.202, an STCW certificate or endorsement valid for any period on or after February 1, 2002,” and add, in their place the words “Except as provided in § 10.202, an STCW certificate or endorsement”; and

d. In paragraphs (m)(1), (n)(1) and (o), remove the words “each candidate for an STCW certificate or endorsement as master or mate, to be valid on or after February 1, 2002,” and add, in their place, the words “each candidate for an STCW certificate as master or mate”.

§ 10.209 [Amended]

40. In § 10.209(e)(3)(i) introductory text, remove the words “Coast Guard office”, and add, in their place, the words “Coast Guard Regional Examination Center”.

§ 10.302 [Amended]

41. In § 10.302(a), remove the number “510”, and add, in its place, the number “630”.

§ 10.303 [Amended]

42. In § 10.303(f) introductory text, remove the words “shall direct”, and add, in their place, the word “directs”.

§ 10.304 [Amended]

43. In § 10.304(h)(7) and (8), remove the words “license or document”, and add, in their place, the words “licenses or documents”.

§ 10.306 [Remove and Reserve]

44. Remove and reserve § 10.306.

§ 10.307 [Amended]

45. In § 10.307, remove the number “510”, and add, in its place, the number “630”, and remove the number “(703) 235-1300”, and add, in its place, the words “(202) 493-1025 (also available on the internet at: www.uscg.mil/nmc).”

§ 10.309 [Amended]

46. In § 10.309(a)(11), remove the words “suite 510”, and add, in their place, the words “Suite 630”.

§ 10.805 [Amended]

47. In § 10.805(b), remove the words “mariner s”, and add, in their place the word “mariner's”.

§ 10.811 [Remove and Reserve]

48. Remove and reserve § 10.811.

§ 10.901 [Amended]

49. In § 10.901(c), in the introductory text, remove the words “each applicant for an STCW certificate or endorsement, to be valid for service on or after February 1, 2002, in the following capacities”, and add, in their place, the words “each applicant for an STCW certificate or endorsement in the following capacities”.

50. Revise the introductory text of 10.903(c) to read as follows:

§ 10.903 Licenses requiring examinations

* * * * *

(c) Each candidate for any of the following licenses shall meet the requirements of the appropriate STCW regulations and standards of competence and those in part A of the STCW Code (incorporated by reference in § 10.102, as indicated in table 903-1):

* * * * *

PART 12—CERTIFICATION OF SEAMEN

51. Revise the authority citation for part 12 to read as follows:

Authority: 31 U.S.C. 9701; 46 U.S.C. 2101, 2103, 2110, 7301, 7302, 7503, 7505, 7701; Department of Homeland Security Delegation No. 0170.1.

§ 12.01-9 [Amended]

52. In § 12.01-9(b)(1), remove the number “2115-0624”, and add, in its place, the number “1625-0079”.

§ 12.02-3 [Amended]

53. Amend § 12.02-3 as follows:

a. In paragraph (a), remove the words “applicants qualifying therefor”, and add, in their place, the words “qualifying applicants”;

b. In paragraph (b)(3), after the word “appears”, add the word “and”.

§ 12.02-4 [Amended]

54. Revise § 12.02-4 as follows:

a. In paragraph (c)(1)(ii), in the first sentence, remove the comma after the words “reason or reasons for”; and

b. In paragraph (c)(6), after the words “of this section”, add a comma.

§ 12.02-10 [Amended]

55. In § 12.02-10, remove the words “Immigration and Naturalization Service” wherever they appear, and add, in their place, the words “US Citizenship and Immigration Services”.

§ 12.02-11 [Amended]

56. Amend § 12.02-11 as follows:

a. In paragraph (d)(1), in the first sentence, after the phrase “rating in the deck department” add a comma; in the first sentence, add commas around the second appearance of the phrase “except able seaman”; in the second sentence, after the phrase “qualifies as able seaman”, add a comma; and, in the second sentence, after the words “deck department”, add a comma.

b. In paragraph (d)(2), add a comma after the phrase “2,000 horsepower”;

c. In paragraph (e)(1), after the phrase “junior assistant purser” add a comma.

§ 12.02-13 [Amended]

57. In § 12.02-13(b)(8), remove the phrase “United States Immigration and Naturalization Service” and add, in its place, the phrase “US Citizenship and Immigration Services”.

58. Revise § 12.02-23(d) to read as follows:

§ 12.02-23 Issuance of duplicate documents.

* * * * *

(d) Each person issued a document described in § 12.02-5, shall report its loss to an Officer in Charge, Marine Inspection.

* * * * *

§ 12.02-29 [Remove and Reserve]

59. Remove and reserve § 12.02-29.

§ 12.03-1 [Amended]

60. In § 12.03-1—

a. In paragraph (a)(11), remove the words “suite 510” and add, in their place, the words “Suite 630”.

b. In paragraph (c)(2), remove the words, “Commandant (G-MS)” and add, in their place, the words “Commanding Officer, National Maritime Center”.

§ 12.05-9 [Amended]

61. In § 12.05-9, redesignate paragraphs (c-1) and (d) as (d) and (e) respectively.

§ 12.10-3 [Amended]

62. In § 12.10-3(a)(5), remove the word “served”, and add, in its place, the word “service”.

§ 12.10-9 [Amended]

63. In § 12.10-9(a), remove the words “After July 31, 1998, each person” and add, in their place, the words “Each person”.

§ 12.13-1 [Amended]

64. In § 12.13-1, remove the words “After July 31, 1998, each person”, and add, in their place, the words “Each person”.

§ 12.15-5 [Amended]

65. In § 12.15-5(c), remove the word “therefor”, and add, in its place, the word “therefore”.

§ 12.25-20 [Amended]

66. In § 12.25-20, add a comma after the word “physician”.

PART 13—CERTIFICATION OF TANKERMEN

67. Revise the authority citation for part 13 to read as follows:

Authority: 46 U.S.C. 3703, 7317, 8105, 8703, 9102; Department of Homeland Security Delegation No. 0170.1.

§ 13.105 [Amended]

68. In § 13.105, paragraph (b)(1), remove the number “2115-0514” and add, in its place, the number “1625-0040”; in paragraph (b)(2) remove the number “2115-0111” and add, in its place, the number “1625-0028”.

§ 13.113 [Remove and Reserve]

69. Remove and reserve § 13.113.

§ 13.115 [Remove and Reserve]

70. Remove and reserve § 13.115.

§ 13.117 [Remove and Reserve]

71. Remove and reserve § 13.117.

PART 15—MANNING REQUIREMENTS

72. Revise the authority citation for part 15 to read as follows:

Authority: 46 U.S.C. 2101, 2103, 3306, 3703, 8101, 8102, 8104, 8105, 8301, 8304, 8502, 8503, 8701, 8702, 8901, 8902, 8903, 8904, 8905(b), 8906 and 9102; and Department of Homeland Security Delegation No. 0170.1.

§ 15.102 [Amended]

73. In § 15.102, paragraph (b)(1)—

a. Remove the number “2115-0624” and replace it with the number “1625-0079”; and

b. Remove the words “, and 15.111”.

§ 15.103 [Amended]

74. In § 15.103(d), delete the words “in 1995”.

§ 15.105 [Amended]

75. In § 15.105(b), delete the words “in 1995”.

§ 15.515 [Amended]

76. In § 15.515 (a), add a comma after the phrase “in its service and on board”.

§ 15.705 [Amended]

77. In § 15.705(a), in the fifth sentence, remove the words “The minimal safe manning levels specified in a vessel's certificate of inspection takes into consideration” and add, in their place, the words “The minimum safe manning levels specified in a vessel's certificate of inspection take into consideration”.

§ 15.710 [Amended]

78. In § 15.710, in the introductory text, remove the first period in that paragraph, and add, in its place, a comma.

§ 15.812 [Amended]

79. In § 15.812(c) introductory text, remove the words “as first class pilotage areas”, and add, in their place, the words “areas of pilotage waters”.

80. Revise § 15.815(c) to read as follows:

§ 15.815 Radar observers.

* * * * *

(c) Each person having to be licensed under 46 U.S.C. 8904(a) for employment or service as master, mate, or operator on board an uninspected towing vessel of 8 meters (approximately 26 feet) or more in length must, if the vessel is equipped with radar, hold a valid endorsement as radar observer.

* * * * *

81. In § 15.1030, add a note to the section that reads as follows:

§ 15.1030 New York and New Jersey.

* * * * *

Note to § 15.1030:

“Intra-port transit” as used in this section includes the movement of a foreign-trade vessel inbound from sea from the point where a State-licensed pilot ceases providing pilotage to another point within the identified areas (i.e., a dock or anchorage). Likewise, intra-port transit also includes the movement of a foreign-trade vessel outbound to sea from a point within the identified areas (i.e., a dock or anchorage) to the point where a State licensed pilot begins providing pilotage.

§ 15.1103 [Amended]

82. In § 15.1103(b), remove the words “of 500 GT or more”, and add, in their place, the words “of 500 GT or more as determined under the International Tonnage Convention”.

§ 15.1105 [Amended]

83. Amend § 15.1105 as follows:

a. Remove paragraph (d); and

b. Redesignate paragraph (e) as paragraph (d).

PART 16—CHEMICAL TESTING

84. Revise the authority citation for part 16 to read as follows:

Authority: 46 U.S.C. 2103, 3306, 7101, 7301, and 7701; Department of Homeland Security Delegation No. 0170.1.

PART 24—GENERAL PROVISIONS

85. Revise authority citation for part 24 to read as follows:

Authority: 46 U.S.C. 2113, 3306, 4104, 4302; Pub. L. 103-206; 107 Stat.2439; E.O. 12234; 45 FR 58801, 3 CFR, 1980 Comp., p. 277; Department of Homeland Security Delegation No. 0170.1.

PART 25—REQUIREMENTS

86-87. Revise the authority citation for part 25 to read as follows:

Authority: 33 U.S.C. 1903(b); 46 U.S.C. 3306, 4102, 4302; Department of Homeland Security Delegation No. 0170.1.

§ 25.01-5 [Amended]

88. In § 25.01-5, paragraph (b), remove the number “2115.0549” and add, in its place, the number “1625-0099”.

PART 26—OPERATIONS

89. Revise the authority citation for part 26 to read as follows:

Authority: 46 U.S.C. 3306, 4104, 6101, 8105; Pub. L. 103-206, 107 Stat. 2439; E.O. 12234, 45 FR 58801, 3 CFR, 1980 Comp., p. 277; Department of Homeland Security Delegation No. 0170.1.

§ 26.03-8 [Amended]

90. In § 26.03-8(a), in the second sentence, after the word “Commandant”, remove the words “(G-M)” and add, in its place, the words “(G-MOC)”.

PART 27—TOWING VESSELS

91. Revise the authority citation for part 27 to read as follows:

Authority: 46 U.S.C. 3306, 4102 (as amended by Pub. L. 104-324, 110 Stat. 3901); Department of Homeland Security Delegation No. 0170.1.

PART 28—REQUIREMENTS FOR COMMERCIAL FISHING INDUSTRY VESSELS

92. Revise the authority citation for part 28 to read as follows:

Authority: 46 U.S.C. 3316, 4502, 4505, 4506, 6104, 10603; Department of Homeland Security Delegation No. 0170.1.

§ 28.20 [Amended]

93. In § 28.20, paragraph (b), remove the number “2115-0582” wherever it appears, and add, in its place, the number “1625-0061”.

§ 28.30 [Amended]

94. In § 28.30(a), remove the words “33 CFR”.

§ 28.50 [Amended]

95. In § 28.50, in the definition for “Coast Guard representative”, remove the words “Chief, Vessel and Facility Operating Standards Division, Commandant (G-MSO-2)”, and add, in their place, the words “Office of Compliance, Fishing Vessels Safety Division, Commandant (G-MOC-3)”.

§ 28.65 [Amended]

96. In § 28.65(c), remove the word “Bording”, and add, in its place, the word “Boarding”; and remove the word “vesel”, and add, in its place, the word “vessel”.

97. Revise § 28.70(b) to read as follows:

§ 28.70 Approved equipment and material

* * * * *

(b) A listing of current and formerly approved equipment and materials may be found on the internet at: http://cgmix.uscg.mil/equipment. Each OCMI may be contacted for information concerning approved equipment.

§ 28.140 [Amended]

98. In § 28.140, in Table 28.140, remove the text “25.26-5”, wherever it appears, and add, in its place, the text “25.26-50”.

§ 28.275 [Amended]

99. Amend § 28.275 as follows:

a. In paragraph (a), remove the words “United States Marine Safety Association (USMSA), 5458 Wagonmaster Drive, Colorado Springs, CO 80917”, and add, in their place, the words “U.S. Marine Safety Association (USMSA), 5050 Industrial Road, Farmingdale, NJ 07727; telephone: (732) 751-0102; fax: (732) 751-0508; or e-mail: usmsa@usmsa.org”;

b. In paragraph (a)(2)(ii) remove the word “revceived”, and add, in its place, the word “received”;

c. In paragraph (a)(3)(ii), remove the words “(See note 1.)”; and

d. Remove, in its entirety, the note to paragraph (a) marked “NOTE 1”.

100. Revise § 28.300 to read as follows:

§ 28.300 Applicability and general requirements

Each commercial fishing industry vessel which has its keel laid or is at a similar stage of construction, or which undergoes a major conversion completed on or after September 15, 1991, and that operates with more than 16 individuals on board, must comply with the requirements of this subpart in addition to the requirements of subparts A, B, and C of this part.

§ 28.515 [Amended]

101. In § 28.515(b)(1), remove the word “a”, and add, in its place, the word “an”.

§ 28.575 [Amended]

102. In § 28.575(b), remove “0.00216En(Vn2AnZn)/W” and add, in its place, “K En(Vn2AnZn)/W”, and immediately following “where:” insert the words “K=0.00216 when consistent English units are used or 1.113 when consistent metric units are used.”

§ 28.825 [Amended]

103. In § 28.825(b)(2)(ii), remove the phrase “for 20 seconds before the agent”.

PART 30—GENERAL PROVISIONS

104. Revise the authority citation for part 30 to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

§ 30.01-2 [Amended]

105. In § 30.01-2, paragraph (b), remove the number “2115-0131” wherever it appears, and add, in its place, the number “1625-0038”; remove the number “2115-0554” wherever it appears, and add, in its place, the number “1625-0032”; remove the row of numbers that read “§ 32.53-85 * * * 2115-0505”; remove the number “2115-0589” and add, in its place, the number “1625-0064”; remove the number, “2115-0506” and add, in its place, the number “1625-0039”; remove the number, “2115-0505” and add, in its place, the number “1625-0038”.

§ 30.15-1 [Amended]

106. In § 30.15-1(a) remove the word “therefor”, and add, in its place, the word “therefore”.

§ 30.30-11 [Amended]

107. In § 30.30-11(b) remove the word “therefor”, and add, in its place, the word “therefore”.

PART 31—INSPECTION AND CERTIFICATION

108. Revise the authority citation for part 31 to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

§ 31.01-3 [Amended]

109. In § 31.01-3(b), remove the number “(202) 267-6925” and add, in its place, the number “(202) 267-2988”.

PART 34—FIREFIGHTING EQUIPMENT

110. Revise the authority citation for part 34 to read as follows:

Authority: 46 U.S.C. 3306, 3703; E.O. 12234, 45 FR 58801, 3 CFR, 1980 Comp., p. 277; Department of Homeland Security Delegation No. 0170.1.

PART 35—OPERATIONS

111. Revise the authority citation for part 35 to read as follows:

Authority: 33 U.S.C. 1321(j); 46 U.S.C. 3306, 3703, 6101; 49 U.S.C. 5103, 5106; E.O. 12234, 45 FR 58801, 3 CFR, 1980 Comp., p. 277; E.O. 12777, 56 FR 54757, 3 CFR, 1991 Comp., p. 351; Department of Homeland Security Delegation No. 0170.1.

112. Revise § 35.30-35(a)(2), to read as follows:

§ 35.30-35 Spark producing devices—TB/ALL

(a) * * *

(2) The compartments adjacent and the compartments diagonally adjacent are either:

(i) Gas-free;

(ii) Inerted;

(iii) Filled with water;

(iv) Contain Grade E liquid and are closed and secured; or

(v) Are spaces in which flammable vapors and gases normally are not expected to accumulate; and,

* * * * *

PART 36—ELEVATED TEMPERATURE CARGOES

113. Revise the authority citation for part 36 to read as follows:

Authority: 46 U.S.C. 3306, 3703; E.O. 12234, 45 FR 58801, 3 CFR, 1980 Comp., p. 277; Department of Homeland Security Delegation No. 0170.1.

PART 38—LIQUEFIED FLAMMABLE GASES

114. Revise the authority citation for part 38 to read as follows:

Authority: 46 U.S.C. 2103, 3306, 3703; 49 U.S.C. 5101, 5106; E.O. 12234, 45 FR 58801, 3 CFR, 1980 Comp., p. 277; Department of Homeland Security Delegation No. 0170.1.

PART 39—VAPOR CONTROL SYSTEMS

115. Revise the authority citation for part 39 to read as follows:

Authority: 33 U.S.C. 1231; 46 U.S.C. 3306, 3703, 3715(b); 45 FR 58801, 3 CFR, 1980 Comp., p. 277; Department of Homeland Security Delegation No. 0170.1.

§ 39.10-13 [Amended]

116. Amend § 39.10-13 as follows:

a. In paragraph (c), remove the words “paragraphs (a) and (b)”, and add, in their place, the words “paragraph (a)”;

b. In paragraph (d), remove the words “paragraph (d)”, and add, in their place, the words “paragraph (c)”.

PART 42—DOMESTIC AND FOREIGN VOYAGES BY SEA

117. Revise the authority citation for part 42 to read as follows:

Authority: 46 U.S.C. 5101-5116; Department of Homeland Security Delegation No. 0170.1; section 42.01-5 also issued under the authority of 44 U.S.C. 3507.

§ 42.01-5 [Amended]

118. In § 42.01-5, paragraph (b), remove the number “2115-0043” wherever it appears, and add, in its place, the number “1625-0013”.

PART 44—SPECIAL SERVICE LIMITED DOMESTIC VOYAGES

119. Revise the authority citation for part 44 to read as follows:

Authority: 46 U.S.C. 5101-5116; Department of Homeland Security Delegation No. 0170.1.

§ 44.05-10 [Amended]

120. In § 44.05-10(d), in the first sentence, remove the word “no”, and add, in its place, the word “on”.

PART 45—GREAT LAKES LOAD LINES

121. Revise the authority citation for part 45 to read as follows:

Authority: 46 U.S.C. 5104, 5108; Department of Homeland Security Delegation No. 0170.1.

PART 46—SUBDIVISION LOAD LINES FOR PASSENGER VESSELS

122. Revise the authority citation for part 46 to read as follows:

Authority: 46 U.S.C. 3306; 46 U.S.C. 5101-5116; E.O. 12234, 3 CFR, 1980 Comp., p. 277; Department of Homeland Security Delegation No. 0170.1.

PART 47—COMBINATION LOAD LINES

123. Revise the authority citation for part 47 to read as follows:

Authority: 46 U.S.C. 5115; Department of Homeland Security Delegation No. 0170.1.

PART 50—GENERAL PROVISIONS

124. Revise the authority citation for part 50 to read as follows:

Authority: 43 U.S.C. 1333; 46 U.S.C. 3306, 3703; E.O. 12234, 45 FR 58801, 3 CFR, 1980 Comp., p. 277; Department of Homeland Security Delegation No. 0170.1; Section 50.01-20 also issued under the authority of 44 U.S.C. 3507.

§ 50.01-20 [Amended]

125. In § 50.01-20, paragraph (b), remove the number, “2115-0142” and add, in its place, the number “1625-0097”.

§ 50.25-1 [Amended]

126. In paragraph (e), remove the number “58.30-17” and add, in its place, “58.30-15”.

PART 52—POWER BOILERS

127. Revise the authority citation for part 52 to read as follows:

Authority: 46 U.S.C. 3306, 3307, 3703; E.O. 12234, 45 FR 58801, 3 CFR, 1980 Comp., p. 277; Department of Homeland Security Delegation No. 0170.1.

PART 53—HEATING BOILERS

128. Revise the authority citation for part 53 to read as follows:

Authority: 46 U.S.C. 3306, 3703; E.O. 12234, 45 FR 58801, 3 CFR, 1980 Comp., p. 277; Department of Homeland Security Delegation No. 0170.1.

PART 54—PRESSURE VESSELS

129. Revise the authority citation for part 54 to read as follows:

Authority: 33 U.S.C. 1509; 43 U.S.C. 1333; 46 U.S.C. 3306, 3703; E.O. 12234, 45 FR 58801, 3 CFR, 1980 Comp., p. 277; Department of Homeland Security Delegation No. 0170.1.

§ 54.15-25 [Amended]

130. In § 54.15-25(c), remove the words “standard conditions 0 °C and 1.03 kp/cm²” and add, in their place, the words “standard conditions 15 °C and 103 kPa”.

PART 56—PIPING SYSTEMS AND APPURTENANCES

131. Revise the authority citation for part 56 to read as follows:

Authority: 33 U.S.C. 1321(j), 1509; 43 U.S.C. 1333; 46 U.S.C. 3306, 3703; E.O. 12234, 45 FR 58801, 3 CFR, 1980 Comp., p. 277; E.O. 12777, 56 FR 54757, 3 CFR, 1991 Comp., p. 351; Department of Homeland Security Delegation No. 0170.1.

§ 56.01-2 [Amended]

132. In § 56.01-2(b) remove the word “Flantion” and add, in its place, the word “Flanges”.

§ 56.20-9 [Amended]

133. Amend § 56.20-9 as follows:

a. In paragraph (a), between the fourth and fifth sentences, add the sentence “See § 56.50-1(g)(2)(iii)”; and

b. In paragraph (c), remove the text “Refer also to § 56.20-15(b)(2)(ii)” and add, in its place, the text “Refer also to § 56.20-15(b)(2)(iii)”.

§ 56.55 [Amended]

134. In Table 56.50-55(a), in note 1, remove the words “Subpart 182.25” and add, in their place, the words “Subpart 182.520”.

§ 56.50-60 [Amended]

135. In § 56.50-60(m)(2), remove “§ 58.50-90” and add, in its place, “§ 56.50-90”.

PART 58—MAIN AND AUXILIARY MACHINERY AND RELATED SYSTEMS

136. Revise the authority citation for part 58 to read as follows:

Authority: 43 U.S.C. 1333; 46 U.S.C. 3306, 3703; E.O. 12234, 45 FR 58801, 3 CFR, 1980 Comp., p. 277; Department of Homeland Security Delegation No. 0170.1.

§ 58.20-15 [Amended]

137. In § 58.20-15(c), remove the word “waterweight” and add, in its place, the word “watertight”.

PART 59—REPAIRS TO BOILERS, PRESSURE VESSELS AND APPURTENANCES

138. Revise the authority citation for part 59 to read as follows:

Authority: 46 U.S.C. 3306, 3703; E.O. 12234, 45 FR 58801, 3 CFR, 1980 Comp., p. 227; Department of Homeland Security Delegation No. 0170.1.

PART 61—PERIODIC TESTS AND INSPECTIONS

139. Revise the authority citation for part 61 to read as follows:

Authority: 43 U.S.C. 1333; 46 U.S.C. 2103, 3306, 3307, 3703; E.O. 12234, 45 FR 58801, 3 CFR 1980 Comp., p. 277; Department of Homeland Security Delegation No. 0170.1.

PART 62—VITAL SYSTEM AUTOMATION

140. Revise the authority citation for part 62 to read as follows:

Authority: 46 U.S.C. 3306, 3703, 8105; E.O. 12234, 45 FR 58801, 3 CFR, 1980 Comp., p. 277; Department of Homeland Security Delegation No. 0170.1.

§ 62.50-20 [Amended]

141. In § 62.50-20(g)(2), remove “§ 111.30-1(a)(4)” and add, in its place, “§ 111.30-1”.

PART 63—AUTOMATIC AUXILIARY BOILERS

142. Revise the authority citation for part 63 to read as follows:

Authority: 46 U.S.C. 3306, 3703; E.O. 12234, 45 FR 58801, 3 CFR, 1980 Comp., p. 277; Department of Homeland Security Delegation No. 0170.1.

§ 63.01-3 [Amended]

143. In § 63.01-3(b), remove the term “(20 gph)”.

PART 64—MARINE PORTABLE TANKS AND CARGO HANDLING SYSTEMS

144. Revise the authority citation for part 64 to read as follows:

Authority: 46 U.S.C. 3306, 3703; 49 U.S.C. App. 1804; Department of Homeland Security Delegation No. 0170.1.

§ 64.95 [Amended]

145. In § 64.95(d), remove “§ 50.25-15” and add, in its place, “§ 50.25-10”.

PART 67—DOCUMENTATION OF VESSELS

146. Revise the authority citation for part 67 to read as follows:

Authority: 14 U.S.C. 664; 31 U.S.C. 9701; 42 U.S.C. 9118; 46 U.S.C. 2103, 2107, 2110, 12106, 12120, 12122; 46 U.S.C. app. 841a, 876; Department of Homeland Security Delegation No. 0170.1.

§ 67.3 [Amended]

147. In § 67.3(c) in the definition for “National Vessel Documentation Center”, remove the words “2039 Stonewall Jackson Drive” and add, in their place, the words “792 T.J. Jackson Drive”.

§ 67.13 [Amended]

148. In § 67.13(a), remove the words “2039 Stonewall Jackson Drive”, and add, in their place, the words “792 T.J. Jackson Drive”.

§ 67.14 [Amended]

149. In § 67.14(b), remove the number “2115-0110” wherever it appears, and add, in its place, the number “1625-0027”.

§ 67.31 [Amended]

150. In § 67.31(c)(3), remove the word “meaning”, and add, in its place, the word “manning”.

PART 68—DOCUMENTATION OF VESSELS PURSUANT TO EXTRAORDINARY LEGISLATIVE GRANTS

151. Revise the authority citation for part 68 to read as follows:

Authority: 46 U.S.C. 2103; Pub. L. 107-296, 116 Stat. 2135; Department of Homeland Security Delegation No. 0170.1. Subpart 68.01 also issued under 46 U.S.C. App. 876; subpart 68.05 also issued under 46 U.S.C. 12106(d).

PART 69—MEASUREMENT OF VESSELS

152. Revise the authority citation for part 69 to read as follows:

Authority: 46 U.S.C. 2301, 14103; Department of Homeland Security Delegation No. 0170.1.

§ 69.29 [Amended]

153. In § 69.29(b), remove the number “2115-0086” wherever it appears, and add, in its place, the number “1625-0022”.

PART 70—GENERAL PROVISIONS

154. Revise the authority citation for part 70 to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1; Section 70.01-15 also issued under the authority of 44 U.S.C. 3507.

§ 70.01-15 [Amended]

155. In § 70.01-15, in paragraph (b), remove the number “2115-0136” and add, in its place, the number “1625-0032”; remove the number “2115-0554” and add, in its place, the number “1625-0032”; remove the number “2115-0589” wherever it appears and add, in its place, the number “1625-0064”.

PART 71—INSPECTION AND CERTIFICATION

156. Revise the authority citation for part 71 to read as follows:

Authority: 33 U.S.C. 1321(j); 46 U.S.C. 2113, 3205, 3306, 3307; E.O. 12234, 45 FR 58801, 3 CFR, 1980 Comp., p. 277; E.O. 12777, 56 FR 54757, 3 CFR, 1991 Comp., p. 351; Department of Homeland Security Delegation No. 0170.1.

§ 71.15-5 [Amended]

157. In § 71.15-5 (b), remove “(202) 267-6925” and add, in its place, “(202) 267-2988”.

PART 72—CONSTRUCTION AND ARRANGEMENT

158. Revise the authority citation for part 72 to read as follows:

Authority: 46 U.S.C. 3306; E.O. 12234, 45 FR 58801, 3 CFR, 1980 Comp., p. 277; Department of Homeland Security Delegation No. 0170.1.

PART 76—FIRE PROTECTION EQUIPMENT

159. Revise the authority citation for part 76 to read as follows:

Authority: 46 U.S.C. 3306; E.O. 12234, 45 FR 58801, 3 CFR, 1980 Comp., p. 277; Department of Homeland Security Delegation No. 0170.1.

§ 76.23-15 [Amended]

160. In § 76.23-15(a), remove “§ 78.47-15” and add, in its place, “§ 78.47-18”.

PART 77—VESSEL CONTROL AND MISCELLANEOUS SYSTEMS AND EQUIPMENT

161. Revise the authority citation for part 77 to read as follows:

Authority: 46 U.S.C. 3306; E.O. 12234, 45 FR 58801, 3 CFR, 1980 Comp., p. 277; Department of Homeland Security Delegation No. 0170.1.

PART 78—OPERATIONS

162. Revise the authority citation for part 78 to read as follows:

Authority: 33 U.S.C. 1321(j); 46 U.S.C. 2103, 3306, 6101; 49 U.S.C. 5103, 5106; E.O. 12234, 45 FR 58801, 3 CFR, 1980 Comp., p. 277; E.O. 12777, 56 FR 54757, 3 CFR, 1991 Comp., p. 351; Department of Homeland Security Delegation No. 0170.1.

PART 80—DISCLOSURE OF SAFETY STANDARDS AND COUNTRY OF REGISTRY

163. Revise the authority citation for part 80 to read as follows:

Authority: 46 U.S.C. 3306; Department of Homeland Security Delegation No. 0170.1.

PART 90—GENERAL PROVISIONS

164. Revise the authority citation for part 90 to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1.

§ 90.01-15 [Amended]

165. In § 90.01-15(b), remove the number “2115-0517”, and add, in its place, the number “1625-0065”; remove the number “2115-0554” wherever it appears, and add, in its place, the number “1625-0032”; remove the number “2115-0589” wherever it appears, and add, in its place, the number “1625-0064”.

PART 91—INSPECTION AND CERTIFICATION

166. The authority citation for part 91 continues to read as follows:

Authority: 33 U.S.C. 1321(j); 46 U.S.C. 3205, 3306, 3307; 46 U.S.C. Chapter 701; E.O. 12234; 45 FR 58801; 3 CFR, 1980 Comp., p. 277; E.O. 12777, 56 FR 54757, 3 CFR, 1991 Comp., p. 351; Department of Homeland Security Delegation No. 0170.1.

§ 91.15-5 [Amended]

167. In § 91.15-5(b), remove the number “(202) 267-6925” and add, in its place, the number “(202) 267-2988”.

PART 92—CONSTRUCTION AND ARRANGEMENT

168. Revise the authority citation for part 92 to read as follows:

Authority: 46 U.S.C. 3306; E.O. 12234, 45 FR 58801, 3 CFR, 1980 Comp., p. 277; Department of Homeland Security Delegation No. 0170.1.

PART 95—FIRE PROTECTION EQUIPMENT

169. Revise the authority citation for part 95 to read as follows:

Authority: 46 U.S.C. 3306; E.O. 12234, 45 FR 58801, 3 CFR, 1980 Comp., p. 277; Department of Homeland Security Delegation No. 0170.1.

PART 96—VESSEL CONTROL AND MISCELLANEOUS SYSTEMS AND EQUIPMENT

170. Revise the authority citation for part 96 to read as follows:

Authority: 46 U.S.C. 3306; E.O. 12234, 45 FR 58801, 3 CFR, 1980 Comp., p. 277; Department of Homeland Security Delegation No. 0170.1.

PART 97—OPERATIONS

171. Revise the authority citation for part 97 to read as follows:

Authority: 33 U.S.C. 1321(j); 46 U.S.C. 2103, 3306, 6101; 49 U.S.C. 5103, 5106; E.O. 12234, 45 FR 58801, 3 CFR, 1980 Comp., p. 277; E.O. 12777, 56 FR 54757; 3 CFR, 1991 Comp., p. 351; Department of Homeland Security Delegation No. 0170.1.

§ 97.12-5 [Amended]

172. In § 97.12-5, remove the words “30 Vesey Street, New York, NY 10007-2914”, and add, in their place, the words “17 Battery Place, Suite 1232, New York, NY 10004-1207 (telephone: 212-785-8300; fax: 212-785-8333; or e-mail: helpdesk@natcargo.org)”.

PART 98—SPECIAL CONSTRUCTION, ARRANGEMENT, AND OTHER PROVISIONS FOR CERTAIN DANGEROUS CARGOES IN BULK

173. Revise the authority citation for part 98 to read as follows:

Authority: 33 U.S.C. 1903; 46 U.S.C. 3306, 3307, 3703; 49 U.S.C. App. 1804; E.O. 12234, 45 FR 58801, 3 CFR, 1980 Comp., p. 277; Department of Homeland Security Delegation No. 0170.1.

PART 105—COMMERCIAL FISHING VESSELS DISPENSING PETROLEUM PRODUCTS

174. Revise the authority citation for part 105 to read as follows:

Authority: 33 U.S.C. 1321(j); 46 U.S.C. 3306, 3703, 4502; 49 U.S.C. App. 1804; E.O. 11735, 38 FR 21243, 3 CFR, 1971-1975 Comp., p. 793; Department of Homeland Security Delegation No. 0170.1.

PART 107—INSPECTION AND CERTIFICATION

175. Revise the authority citation for part 107 to read as follows:

Authority: 43 U.S.C. 1333; 46 U.S.C. 3306, 3307; 46 U.S.C. 3316; Department of Homeland Security Delegation No. 0170.1; § 107.05 also issued under the authority of 44 U.S.C. 3507.

§ 107.05 [Amended]

176. In § 107.05(b), remove the number “2115-0505” wherever it appears, and add, in its place, the number “1625-0038”; remove the number “2115-0589”, and add, in its place, the number “1625-0064”.

§ 107.205 [Amended]

177. In § 107.205(b), remove the number “(202) 267-6925” and add, in its place, the number “(202) 267-2988”.

PART 108—DESIGN AND EQUIPMENT

178. Revise the authority citation for part 108 to read as follows:

Authority: 43 U.S.C. 1333; 46 U.S.C. 3102, 3306; Department of Homeland Security Delegation No. 0170.1.

PART 109—OPERATIONS

179. Revise the authority citation for part 109 to read as follows:

Authority: 43 U.S.C. 1333; 46 U.S.C. 3306, 6101, 10104; Department of Homeland Security Delegation No. 0170.1.

PART 110—GENERAL PROVISIONS

180. Revise the authority citation for part 110 to read as follows:

Authority: 33 U.S.C. 1509; 43 U.S.C 1333; 46 U.S.C. 3306, 3307, 3703; E.O. 12234, 45 FR 58801, 3 CFR, 1980 Comp., p. 277; Department of Homeland Security Delegation No. 0170.1; § 110.01-2 also issued under 44 U.S.C. 3507.

§ 110.01-2 [Amended]

181. In § 110.01-2(b), remove the number “2115-0115”, and replace it with the number “1625-0031”.

§ 110.25-3 [Amended]

182. In the Editorial Note to § 110.25-3, remove the word “addded” and add, in its place, the word “added”.

PART 111—ELECTRICAL SYSTEMS-GENERAL ENGINEERING

183. Revise the authority citation for part 111 to read as follows:

Authority: 46 U.S.C. 3306, 3703; Department of Homeland Security Delegation No. 0170.1.

§ 111.01-15 [Amended]

184. Amend § 111.01-15 as follows:

a. In paragraph (a), remove “40 °C” and add, in its place, “40 °C (104 °F)”;

b. In paragraph (b), remove “50 °C” and add, in its place, “50 °C (122 °F)”, and remove “45 °C” and add, in its place, “45 °C (113 °F)”;

c. In paragraph (c), remove “45 °C” and add, in its place, “45 °C (113 °F), remove “40 °C” and add, in its place, “40 °C (104 °F)”, and remove “50 °C” and add, in its place, “50 °C (122 °F)”; and

d. In paragraph (d), remove “55 °C” and add, in its place, “55 °C (131 °F)”.

§ 111.60-7 [Amended]

185. In § 111.60-7, in Table 111.60-7, in the “Demand load” column, remove the words “when grounded netural is not protected” and add, in their place, the words “when grounded neutral is not protected”.

§ 111.99-3 [Amended]

186. In § 111.99-3, in the definition for “Fire door holding magnet” remove the word “electronmagnet” and add, in its place, the word “electromagnet”.

§ 111.101-1 [Amended]

187. In § 111.101-1, remove “§ 56.50-55(a)(2)(i)” and add, in its place, “§ 56.50-55”.

PART 112—EMERGENCY LIGHTING AND POWER SYSTEMS

188. Revise the authority citation for part 112 to read as follows:

Authority: 46 U.S.C. 3306, 3703; Department of Homeland Security Delegation No. 0170.1.

§ 112.50-1 [Amended]

189. In § 112.50-1(i), remove “§ 58.10-15(g)” and add, in its place, “§ 58.10-15(f)”.

PART 113—COMMUNICATION AND ALARM SYSTEMS AND EQUIPMENT

190. Revise the authority citation for part 113 to read as follows:

Authority: 46 U.S.C. 3306, 3703; Department of Homeland Security Delegation No. 0170.1.

§ 113.25-20 [Amended]

191. In § 113.25-20(b), remove the words “corrision-resistant” and add, in their place, the words “corrosion-resistant”.

§ 113.30-5 [Amended]

192. In § 113.30-5(e)(1), remove the word “comunication” and add, in its place, the word “communication”.

§ 113.43-3 [Amended]

193. In § 113.43-3(a), remove the word “contol” and add, in its place, the word “control”.

PART 114—GENERAL PROVISIONS

194. Revise the authority citation for part 114 to read as follows:

Authority: 46 U.S.C. 2103, 3306, 3703; Pub. L. 103-206, 107 Stat. 2439; 49 U.S.C. App. 1804; Department of Homeland Security No. 0170.1; § 114.900 also issued under 44 U.S.C. 3507.

§ 114.900 [Amended]

195. In § 114.900(b), remove the number “2115-0578” wherever it appears, and add, in its place, the number “1625-0057”; remove the number “2115-0003” wherever it appears, and add, in its place, the number “1625-0001”; and, remove the words “will be displayed when assigned by OMB” wherever it appears, and add, in their place, the number “1625-0057”.

PART 116—CONSTRUCTION AND ARRANGEMENT

196. Revise the authority citation for part 116 to read as follows:

Authority: 46 U.S.C. 2103, 3306; E.O. 12234, 45 FR 58801, 3 CFR, 1980 Comp., p. 277, Department of Homeland Security Delegation No. 0170.1.

§ 116.438 [Amended]

197. In § 116.438(g), remove “(0.375 inches)” and add, in its place, “(0.19685 inches)”.

PART 117—LIFESAVING EQUIPMENT AND ARRANGEMENTS

198. Revise the authority citation for part 117 to read as follows:

Authority: 46 U.S.C. 2103, 3306; E.O. 12234, 45 FR 58801, 3 CFR, 1980 Comp., p. 277; Department of Homeland Security Delegation No. 0170.1.

PART 118—FIRE PROTECTION EQUIPMENT

199. Revise the authority citation for part 118 to read as follows:

Authority: 46 U.S.C. 2103, 3306; E.O. 12234, 45 FR 58801, 3 CFR, 1980 Comp., p. 277; Department of Homeland Security Delegation No. 0170.1.

PART 119—MACHINERY INSTALLATION

200. Revise the authority citation for part 119 to read as follows:

Authority: 46 U.S.C. 2103, 3306; E.O. 12234, 45 FR 58801, 3 CFR, 1980 Comp., p. 277; Department of Homeland Security Delegation No. 0170.1.

PART 120—ELECTRICAL INSTALLATION

201. Revise the authority citation for part 120 to read as follows:

Authority: 46 U.S.C. 2103, 3306; E.O. 12234, 45 FR 58801, 3 CFR, 1980 Comp., p. 277; Department of Homeland Security Delegation No. 0170.1.

PART 121—VESSEL CONTROL AND MISCELLANEOUS SYSTEMS AND EQUIPMENT

202. Revise the authority citation for part 121 to read as follows:

Authority: 46 U.S.C. 2103, 3306; E.O. 12234, 45 FR 58801, 3 CFR, 1980 Comp., p. 277; Department of Homeland Security Delegation No. 0170.1.

PART 122—OPERATIONS

203. Revise the authority citation for part 122 to read as follows:

Authority: 46 U.S.C. 2103, 3306, 6101; E.O. 12234, 45 FR 58801, 3 CFR, 1980 Comp., p. 277; Department of Homeland Security Delegation No. 0170.1.

PART 125—GENERAL

204. Revise the authority citation for part 125 to read as follows:

Authority: 46 U.S.C. 2103, 3306, 3307; 49 U.S.C. App. 1804; Department of Homeland Security Delegation No. 0170.1.

PART 127—CONSTRUCTION AND ARRANGEMENTS

205. Revise the authority citation for part 127 to read as follows:

Authority: 46 U.S.C. 3306; Department of Homeland Security Delegation No. 0170.1.

PART 128—MARINE ENGINEERING: EQUIPMENT AND SYSTEMS

206. Revise the authority citation for part 128 to read as follows:

Authority: 46 U.S.C. 3306; Department of Homeland Security Delegation No. 0170.1.

PART 129—ELECTRICAL INSTALLATIONS

207. Revise the authority citation for part 129 to read as follows:

Authority: 46 U.S.C. 3306; Department of Homeland Security Delegation No. 0170.1.

PART 130—VESSEL CONTROL, AND MISCELLANEOUS EQUIPMENT AND SYSTEMS

208. Revise the authority citation for part 130 to read as follows:

Authority: 46 U.S.C. 3306; Department of Homeland Security Delegation No. 0170.1.

PART 131—OPERATIONS

209. Revise the authority citation for part 131 to read as follows:

Authority: 33 U.S.C. 1321(j); 46 U.S.C. 3306, 6101, 10104; E.O. 12234, 3 CFR, 1980 Comp., p. 277; E.O. 12777, 3 CFR, 1991 Comp., p. 351; Department of Homeland Security Delegation No. 0170.1.

PART 132—FIRE-PROTECTION EQUIPMENT

210. Revise the authority citation for part 132 to read as follows:

Authority: 46 U.S.C. 3306, 3307; Department of Homeland Security Delegation No. 0170.1.

PART 133—LIFESAVING SYSTEMS

211. Revise the authority citation for part 133 to read as follows:

Authority: 46 U.S.C. 3306, 3307; Department of Homeland Security Delegation No. 0170.1.

PART 134—ADDED PROVISIONS FOR LIFTBOATS

212. Revise the authority citation for part 134 to read as follows:

Authority: 46 U.S.C. 3306, 3307; Department of Homeland Security Delegation No. 0170.1.

PART 147—HAZARDOUS SHIPS' STORES

213. Revise the authority citation for part 147 to read as follows:

Authority: 46 U.S.C. 3306; E.O. 12234, 45 FR 58801, 3 CFR, 1980 Comp., p. 277; Department of Homeland Security Delegation No. 0170.1.

§ 147.5 [Amended]

214. In § 147.5, remove the words “Marine Safety and Environmental Protection” and add, in their place, the words “Marine Safety, Security and Environmental Protection”.

§ 147.8 [Amended]

215. In § 147.8(b), remove the number “2115-0139” wherever it appears, and add, in its place, the number “1625-0034”.

PART 147A—INTERIM REGULATIONS FOR SHIPBOARD FUMIGATION

216. Revise the authority citation for part 147A to read as follows:

Authority: 46 U.S.C. 5103; Department of Homeland Security Delegation No. 0170.1.

PART 148—CARRIAGE OF SOLID HAZARDOUS MATERIALS IN BULK

217. Revise the authority citation for part 148 to read as follows:

Authority: 49 U.S.C. 5103; Department of Homeland Security Delegation No. 0170.1.

PART 150—COMPATIBILITY OF CARGOES

218. Revise the authority citation for part 150 to read as follows:

Authority: 46 U.S.C. 3306, 3703; Department of Homeland Security Delegation No. 0170.1. Section 150.105 issued under 44 U.S.C. 3507; Department of Homeland Security Delegation No. 0170.1.

§ 150.105 [Amended]

219. In § 150.105(b), remove the number “2115-0016” wherever it appears, and add, in its place, the number “1625-0007”; remove the number “2115-0089” wherever it appears, and add, in its place, the number “1625-0094”; remove the number “2115-0113” and add, in its place, the number “1625-0029”.

PART 151—BARGES CARRYING BULK LIQUID HAZARDOUS MATERIAL CARGOES

220. Revise the authority citation for part 151 to read as follows:

Authority: 33 U.S.C. 1903; 46 U.S.C. 3703; Department of Homeland Security Delegation No. 0170.1.

PART 153—SHIPS CARRYING BULK LIQUID, LIQUEFIED GAS, OR COMPRESSED GAS HAZARDOUS MATERIALS

221. Revise the authority citation for part 153 to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903 (b).

PART 154—SAFETY STANDARDS FOR SELF-PROPELLED VESSELS CARRYING BULK LIQUEFIED GASES

222. Revise the authority citation for part 154 to read as follows:

Authority: 46 U.S.C. 3703, 9101; Department of Homeland Security Delegation No. 0170.1.

PART 159—APPROVAL OF EQUIPMENT AND MATERIALS

223. The authority citation for part 159 continues to read as follows:

Authority: 46 U.S.C. 3306, 3703; Department of Homeland Security Delegation No. 0170.1; Section 159.001-9 also issued under the authority of 44 U.S.C. 3507.

§ 159.001-9 [Amended]

224. In § 159.001-9(b), remove the number “2115-0090” wherever it appears, and add, in its place, the number “1625-0035”; remove the number “2115-0121” wherever it appears, and add, in its place, the number “1625-0035”; remove the number “2115-0141” wherever it appears, and add, in its place, the number “1625-0035”; remove the number “2115-0525” wherever it appears, and add, in its place, the number “1625-0035”.

PART 161—ELECTRICAL EQUIPMENT

225. Revise the authority citation for part 161 to read as follows:

Authority: 46 U.S.C. 3306, 3703, 4302; E.O. 12234, 45 FR 58801, 3 CFR, 1980 Comp., p. 277; Department of Homeland Security Delegation No. 0170.1.

§ 161.002-4 [Amended]

226. In § 161.002-4(b)(4), immediately after the word “protection”, insert the words, “(defined in § 110.15-1 of this chapter)”, and delete the words, “Category ENV3 of”.

§ 161.002-10 [Amended]

227. In § 161.002-10(g)(1), remove the word “valves” and add, in its place, the word “values”.

PART 162—ENGINEERING EQUIPMENT

228. Revise the authority citation for part 162 to read as follows:

Authority: 33 U.S.C. 1321(j), 1903; 46 U.S.C. 3306, 3703, 4104, 4302; E.O. 12234, 45 FR 58801, 3 CFR, 1980 Comp., p. 277; E.O. 11735, 38 FR 21243, 3 CFR, 1971-1975 Comp., p. 793; Department of Homeland Security Delegation No. 0170.1.

§ 162.017-6 [Amended]

229. In § 162.017-6(c), remove the words “acceptable to the Commanding Officer, USCG Marine Safety Center” and add, in their place, the words “acceptable to the Commandant (G-MSE)”.

PART 166—DESIGNATION AND APPROVAL OF NAUTICAL SCHOOL SHIPS

230. Revise the authority citation for part 166 to read as follows:

Authority: 46 U.S.C. 2103, 3306, 8105; 46 U.S.C. App. 1295g; Department of Homeland Security Delegation No. 0170.1.

PART 167—PUBLIC NAUTICAL SCHOOL SHIPS

231. Revise the authority citation for part 167 to read as follows:

Authority: 46 U.S.C. 3306, 3307, 6101, 8105; E.O. 12234, 45 FR 58801, 3 CFR, 1980 Comp., p. 277; Department of Homeland Security Delegation No. 0170.1.

§ 167.01-20 [Amended]

232. In § 167.01-20(b), remove the number “2115-0554”, and add, in its place, the number “1625-0032”; remove the number “§ 167.65-43”, and replace it with the number “§ 167.65-42”; remove the number “2115-0589” wherever it appears, and add, in its place, the number “1625-0064”.

PART 168—CIVILIAN NAUTICAL SCHOOL VESSELS

233. Revise the authority citation for part 168 to read as follows:

Authority: 46 U.S.C. 3305, 3306; Department of Homeland Security Delegation No. 0170.1.

PART 169—SAILING SCHOOL VESSELS

234. Revise the authority citation for part 169 to read as follows:

Authority: 33 U.S.C. 1321(j); 46 U.S.C. 3306, 6101; Pub. L. 103-206, 107 Stat. 2439; E.O. 11735, 38 FR 21243, 3 CFR, 1971-1975 Comp., p. 793; Department of Homeland Security Delegation No. 0170.1; § 169.117 also issued under the authority of 44 U.S.C. 3507.

§ 169.117 [Amended]

235. In § 169.117(b), remove the number “2115-0517” wherever it appears, and add, in its place, the number “1625-0002”; remove the number “2115-0007”, and add, in its place, the number “1625-0002”; remove the number “2115-0546” wherever it appears, and add in its place, in consecutive order, the numbers “1625-0002”, “1625-0014”, “1625-0014”, “1625-0032”, “1625-0018”, and “1625-0038”; remove the number “2115-0554”, and add, in its place, the number “1625-0032”; remove the number “2115-0095”, and add, in its place, the numbers “1625-0038, 1625-0064”; remove the number “2115-0132”, and add, in its place, the numbers “1625-0035, 1625-0038”; remove the number “2115-0003”, and add, in its place, the number “1625-0001”; remove the number “2115-0589”, and add, in its place, the number “1625-0064”; remove the number “2115-0071”, and add, in its place, the number “1625-0018”.

PART 170—STABILITY REQUIREMENTS FOR ALL INSPECTED VESSELS

236. Revise the authority citation for part 170 to read as follows:

Authority: 43 U.S.C. 1333; 46 U.S.C. 2103, 3306, 3703; E.O. 12234, 45 FR 58801, 3 CFR, 1980 Comp., p. 277; Department of Homeland Security Delegation No. 0170.1.

§ 170.020 [Amended]

237. In § 170.020(b), remove the string of numbers “2115-0095, 2115-0114, 2115-0130, 2115-0131” wherever it appears and add, in its place, the number “1625-0064”; remove the entry for “§ 170.210.”

PART 171—SPECIAL RULES PERTAINING TO VESSELS CARRYING PASSENGERS

238. Revise the authority citation for part 171 to read as follows:

Authority. 46 U.S.C. 2103, 3306; E.O. 12234, 45 FR 58801, 3 CFR, 1980 Comp., p. 277; Department of Homeland Security Delegation No. 0170.1.

PART 172—SPECIAL RULES PERTAINING TO BULK CARGOES

239. Revise the authority citation for part 172 to read as follows:

Authority: 46 U.S.C. 3306, 3703, 5115; E.O. 12234, 45 FR 58801, 3 CFR, 1980 Comp., p. 277; Department of Homeland Security Delegation No. 0170.1.

PART 173—SPECIAL RULES PERTAINING TO VESSEL USE

240. Revise the authority citation for part 173 to read as follows:

Authority: 43 U.S.C. 1333; 46 U.S.C. 2113, 3306, 5115; E.O. 12234, 45 FR 58801, 3 CFR, 1980 Comp., p. 277; Department of Homeland Security Delegation No. 0170.1.

PART 174—SPECIAL RULES PERTAINING TO SPECIFIC VESSEL TYPES

241. Revise the authority citation for part 174 to read as follows:

Authority: 42 U.S.C. 9118, 9119, 9153; 43 U.S.C. 1333; 46 U.S.C. 3306, 3703; E.O. 12234, 45 FR 58801, 3 CFR, 1980 Comp., p. 277; Department of Homeland Security Delegation No. 0170.1.

PART 175—GENERAL PROVISIONS

242. Revise the authority citation for part 175 to read as follows:

Authority: 46 U.S.C. 2103, 3205, 3306, 3703; Pub. L 103-206, 107 Stat. 2439; 49 U.S.C. App. 1804; Department of Homeland Security Delegation No. 0170.1; 175.900 also issued under authority of 44 U.S.C. 3507.

§ 175.400 [Amended]

243. In § 175.400, in the definition for “Open to the atmosphere” remove the words “cubic meter (foot)” and add, in their place, the words “cubic meter (35 ft ³)”.

§ 175.900 [Amended]

244. In § 175.900(b), remove the number “2115-0578” wherever it appears and add, in its place, the number “1625-0057”; remove the number “2115-0589” and add, in its place, the number “1625-0057”; remove the number “2115-0559” wherever it appears and add, in its place, the number “1625-0057”; remove the number “2115-0003” wherever it appears, and add, in its place, the number “1625-0001”; and, remove the footnote “ ¹ Will be displayed when assigned by OMB” from the bottom of the table, and in the four places in the table where the note (1) was applied, remove the reference to the note and add, in its place, the number “1625-0057”.

PART 177—CONSTRUCTION AND ARRANGEMENT

245. Revise the authority citation for part 177 to read as follows:

Authority: 46 U.S.C. 2103, 3306; E.O. 12234, 45 FR 58801, 3 CFR, 1980 Comp., p. 277; Department of Homeland Security Delegation No. 0170.1.

§ 177.202 [Amended]

246. In § 177.202(d), remove the words “Marine Safety Center (Marine Safety Center)” and add, in their place, the words “Marine Safety Center (MSC)”.

PART 178—INTACT STABILITY AND SEAWORTHINESS

247. Revise the authority citation for part 178 to read as follows:

Authority: 43 U.S.C. 1333; 46 U.S.C. 2103, 3306, 3703; E.O. 12234, 45 FR 58801, 3 CFR, 1980 Comp., p. 277; Department of Homeland Security Delegation No. 0170.1.

PART 179—SUBDIVISION, DAMAGE STABILITY, AND WATERTIGHT INTEGRITY

248. Revise the authority citation for part 179 to read as follows:

Authority: 43 U.S.C. 1333; 46 U.S.C. 2103, 3306, 3703; E.O. 12234, 45 FR 58801, 3 CFR, 1980 Comp., p. 277; Department of Homeland Security Delegation No. 0170.1.

PART 180—LIFESAVING EQUIPMENT AND ARRANGEMENTS

249. Revise the authority citation for part 180 to read as follows:

Authority: 46 U.S.C. 2104, 3306; E.O. 12234, 45 FR 58801, 3 CFR, 1980 Comp., p. 277; Department of Homeland Security Delegation No. 0170.1.

PART 181—FIRE PROTECTION EQUIPMENT

250. Revise the authority citation for part 181 to read as follows:

Authority: 46 U.S.C. 2103, 3306; E.O. 12234, 45 FR 58801, 3 CFR, 1980 Comp., p. 277; Department of Homeland Security Delegation No. 0170.1.

PART 182—MACHINERY INSTALLATION

251. Revise the authority citation for part 182 to read as follows:

Authority: 46 U.S.C. 3306; E.O. 12234, 45 FR 58801, 3 CFR, 1980 Comp., p. 277; Department of Homeland Security Delegation No. 0170.1.

§ 182.455 [Amended]

252. In § 182.455(a)(1), remove the words “9 millimeters” and add, in their place, the words “0.9 millimeters”.

PART 183—ELECTRICAL INSTALLATION

253. Revise the authority citation for part 183 to read as follows:

Authority: 46 U.S.C. 2103, 3306; E.O. 12234, 45 FR 58801, 3 CFR, 1980 Comp., p. 277; Department of Homeland Security Delegation No. 0170.1.

PART 184—VESSEL CONTROL AND MISCELLANEOUS SYSTEMS AND EQUIPMENT

254. Revise the authority citation for part 184 to read as follows:

Authority: 46 U.S.C. 2103, 3306; E.O. 12234, 45 FR 58801, 3 CFR, 1980 Comp., p. 277; Department of Homeland Security Delegation No. 0170.1.

PART 185—OPERATIONS

255. Revise the authority citation for part 185 to read as follows:

Authority: 46 U.S.C. 2103, 3306, 6101; E.O. 12234, 45 FR 58801, 3 CFR, 1980 Comp., p. 277; Department of Homeland Security Delegation No. 0170.1.

PART 188—GENERAL PROVISIONS

256. Revise the authority citation for part 188 to read as follows:

Authority: 46 U.S.C. 2113, 3306; Pub. L 103-206, 107 Stat. 2439; 49 U.S.C. 5103, 5106; E.O. 12234, 45 FR 58801, 3 CFR, 1980 Comp., p. 277; Department of Homeland Security Delegation No. 0170.1.

§ 188.01-15 [Amended]

257. In § 188.01-15(b), remove the number “2115-0554” wherever it appears, and add, in its place, the number “1625-0032”; remove the number “2115-0589” wherever it appears, and add, in its place, the number “1625-0064”.

PART 189—INSPECTION AND CERTIFICATION

258. Revise the authority citation for part 189 to read as follows:

Authority: 33 U.S.C. 1321(j); 46 U.S.C. 2113, 3306, 3307; E.O. 12234, 45 FR 58801, 3 CFR, 1980 Comp., p. 277; E.O. 12777, 56 FR 54757, 3 CFR, 1991 Comp., p. 351; Department of Homeland Security Delegation No. 0170.1.

PART 190—CONSTRUCTION AND ARRANGEMENT

259. Revise the authority citation for part 190 to read as follows:

Authority: 46 U.S.C. 2113, 3306; E.O. 12234, 45 FR 58801, 3 CFR, 1980 Comp., p. 277; Department of Homeland Security Delegation No. 0170.1.

PART 193—FIRE PROTECTION EQUIPMENT

260. Revise the authority citation for part 193 to read as follows:

Authority: 46 U.S.C. 2213, 3102, 3306; E.O. 12234, 45 FR 58801, 3 CFR, 1980 Comp., p. 277; Department of Homeland Security Delegation No. 0170.1.

PART 194—HANDLING, USE, AND CONTROL OF EXPLOSIVES AND OTHER HAZARDOUS MATERIALS

261. Revise the authority citation for part 194 to read as follows:

Authority: 46 U.S.C. 2103, 2113, 3306; 49 U.S.C. App. 1804; E.O. 12234, 45 FR 58801, 3 CFR, 1980 Comp., p. 277; Department of Homeland Security Delegation No. 0170.1.

PART 195—VESSEL CONTROL AND MISCELLANEOUS SYSTEMS AND EQUIPMENT

262. Revise the authority citation for part 195 to read as follows:

Authority: 46 U.S.C. 2113, 3306, 3307; 49 U.S.C. App. 1804; E.O. 12234, 45 FR 58801, 3 CFR, 1980 Comp., p. 277; Department of Homeland Security Delegation No. 0170.1.

PART 196—OPERATIONS

263. Revise the authority citation for part 196 to read as follows:

Authority: 33 U.S.C. 1321(j); 46 U.S.C. 2213, 3306, 5115, 6101; E.O. 12777, 56 FR 54757, 3 CFR, 1991 Comp., p. 351; E.O. 12234, 45 FR 58801, 3 CFR, 1980 Comp., p. 277; Department of Homeland Security Delegation No. 0170.1.

PART 197—GENERAL PROVISIONS

264. Revise the authority citation for part 197 to read as follows:

Authority: 33 U.S.C. 1509; 43 U.S.C. 1333; 46 U.S.C. 3306, 3703, 6101; Department of Homeland Security Delegation No. 0170.1.

PART 199—LIFESAVING SYSTEMS FOR CERTAIN INSPECTED VESSELS

265. Revise the authority citation for part 199 to read as follows:

Authority: 46 U.S.C. 3306, 3703; Pub. L 103-206, 107 Stat. 2439; Department of Homeland Security Delegation No. 0170.1.

§ 199.05 [Amended]

266. In § 199.05(a), remove the words “Lifesaving and Fire Safety Division (G-MSE-4)” and add, in their place, the words “Lifesaving and Fire Safety Standards Division (G-MSE-4)”.

267. In § 199.30—

a. Revise the definition for “Approval series”.

b. In the definition for “Ferry”, remove the text, “§ 70.10-15” and add, in its place, the text, “§ 70.10-1”. The revision reads as follows:

§ 199.30 Definitions.

* * * * *

Approval series means the first six digits of a number assigned by the Coast Guard to approved equipment. Where approval is based on a subpart of subchapter Q of this chapter, the approval series corresponds to the number of the subpart. A listing of current and formerly approved equipment and materials may be found on the Internet at: http://cgmix.uscg.mil/equipment. Each OCMI may be contacted for information concerning approved equipment.

* * * * *

§ 199.175 [Amended]

268. In § 199.175(b)(21)(ii)(B), remove the words “(3,937 pounds-force)” and add, in their place, the words “(3,370 pounds-force)”.

PART 401—GREAT LAKES PILOTAGE REGULATIONS

269. The authority citation for part 401 continues to read as follows:

Authority: 46 U.S.C. 2104(a), 6101, 7701, 8105, 9303, 9304; Department of Homeland Security Delegation No. 0170.1; 46 CFR 401.105 also issued under the authority of 44 U.S.C 3507.

§ 401.105 [Amended]

270. In § 401.105(b), remove the number “2115-0022”, and add, in its place, the number “1625-0086”.

§ 401.110 [Amended]

271. In § 401.110(a)(9), remove “(G-MW-1)” and add, in its place, “(G-MWP-2)”.

TITLE 49—TRANSPORTATION

PART 450—GENERAL

272. Revise the authority citation for part 450 to read as follows:

Authority: Sec. 4, 91 Stat 1475 (46 U.S.C. 1503); Department of Homeland Security Delegation No. 0170.1.

§ 450.3 [Amended]

273. Amend § 450.3 as follows:

a. In paragraph (a)(2)(iv)(B), remove the words “The term container includes neither vehicles nor packaging; however, containers when carried on chassis are included.”; and

b. Add paragraph (a)(2)(v) to read as follows:

§ 450.3 Definitions.

(a) * * *

(2) * * *

(v) The term container includes neither vehicles nor packaging; however, containers when carried on chassis are included.

* * * * *

§ 450.11 [Amended]

274. In § 450.11—

a. In paragraph (a), remove the text “(G-MVI)” and add, in its place, the text “(G-MSO)”; and

b. In paragraph (d), remove the words “Merchant Vessel Inspection Division, Office of Merchant Marine Safety” and add, in their place, the words “Office of Operating and Environmental Standards (G-MSO)”.

§ 450.12 [Amended]

275. In § 450.12(a) introductory text, remove the words “Merchant Vessel Inspection Division, Office of Merchant Marine Safety” and add, in their place, the words “Office of Operating and Environmental Standards (G-MSO)”.

§ 450.13 [Amended]

276. In § 450.13, remove the words “Merchant Vessel Inspection Division, Office of Merchant Marine Safety” wherever they appear and add, in their place, the words “Office of Operating and Environmental Standards (G-MSO)”.

§ 450.14 [Amended]

277. In § 450.14, remove the words “Merchant Vessel Inspection Division, Office of Merchant Marine Safety” wherever they appear and add, in their place, the words “Office of Operating and Environmental Standards (G-MSO)”.

§ 450.15 [Amended]

278. In § 450.15(a), remove the words “Merchant Vessel Inspection Division, Office of Merchant Marine Safety” and add, in their place, the words “Office of Operating and Environmental Standards (G-MSO)”.

§ 450.16 [Amended]

279. In § 450.16(a) introductory text and (b) introductory text, remove the words “Merchant Vessel Inspection Division, Office of Merchant Marine Safety” and add, in their place, the words “Office of Operating and Environmental Standards (G-MSO)”.

PART 451—TESTING AND APPROVAL OF CONTAINERS

280. Revise the authority citation for part 451 to read as follows:

Authority: Sec. 4, 91 Stat 1475 (46 U.S.C. 1503); Department of Homeland Security Delegation No. 0170.1.

§ 451.1 [Amended]

281. In § 451.1(a), remove “(G-MVI)” and add, in its place, “(G-MSO)”.

§ 451.3 [Amended]

282. In § 451.3(a), remove the words “Merchant Vessel Inspection Division, Office of Merchant Marine Safety” wherever they appear and add, in their place, the words “Office of Operating and Environmental Standards (G-MSO)”.

§ 451.5 [Amended]

283. In § 451.5(b), remove the words “Merchant Vessel Inspection Division, Office of Merchant Marine Safety” wherever they appear and add, in their place, the words “Office of Operating and Environmental Standards (G-MSO)”.

§ 451.7 [Amended]

284. In § 451.7(a), add commas before and after the phrase “relating to the end and sidewall strength tests”.

§ 451.12 [Amended]

285. In § 451.12(a)(4), remove the words “of bailee” and add, in their place, the words “or bailee”.

§ 451.18 [Amended]

286. In § 451.18(a), remove the words “Merchant Vessel Inspection Division, Office of Merchant Marine Safety” wherever they appear and add, in their place, the words “Office of Operating and Environmental Standards (G-MSO)”.

PART 452—EXAMINATION OF CONTAINERS

287. Revise the authority citation for part 452 to read as follows:

Authority: Sec. 4, 91 Stat 1475 (46 U.S.C. 1503); Department of Homeland Security Delegation No. 0170.1.

§ 452.1 [Amended]

288. In § 452.1(a) after the phrase “except that for containers approved as new containers” add a comma.

§ 452.3 [Amended]

289. Amend § 452.3 as follows:

a. In paragraph (a)(2) remove the text “(types)”; and

b. In paragraph (b) after the word “include” add a comma.

§ 452.7 [Amended]

290. Amend § 452.7 as follows:

a. In paragraph (a), remove “(G-MVI)” and add, in its place, “(G-MSO)”.

b. In the text following paragraph (c), remove the number “2115-0094”, and add, in its place, the number “1625-0024”.

§ 452.9 [Amended]

291. Amend § 452.9 as follows:

a. In paragraph (b), add a comma before the phrase “in addition”.

b. In the text following paragraph (b), remove the number “2115-0094”, and add, in its place, the number “1625-0024”.

PART 453—CONTROL AND ENFORCEMENT

292. Revise the authority citation for part 453 to read as follows:

Authority: Sec. 4, 91 Stat 1475 (46 U.S.C. 1503); Department of Homeland Security Delegation No. 0170.1.

§ 453.7 [Amended]

293. Amend § 453.7 as follows:

a. In § 453.7 remove the words “Merchant Vessel Inspection Division, Office of Merchant Marine Safety” wherever they appear and add, in their place, the words “Office of Operating and Environmental Standards (G-MSO)”; and

b. In paragraph (a) after the phrase “or other order” add a comma.

Dated: September 24, 2004.
Stefan G. Venckus,
Chief, Office of Regulations and Administrative Law, United States Coast Guard.

[FR Doc. 04-21845 Filed 9-29-04; 8:45 am]

BILLING CODE 4910-15-P